DEPARTMENT OF DEFENSE

Office of the Secretary

Department of Defense Task Force on the Care, Management, and Transition of Recovering Wounded, Ill, and Injured Members of the Armed Forces; Amended Meeting Notice

AGENCY: Department of Defense, Office of the Assistant Secretary of Defense.

ACTION: Amended meeting notice.

SUMMARY: Under the provisions of the Federal Advisory Committee Act of 1972 (5 U.S.C., Appendix, as amended), the Government in the Sunshine Act of 1976 (5 U.S.C. 552b, as amended), and 41 CFR 102-3.150, the Department of Defense announces a change to the previously announced meeting of the Department of Defense Task Force on the Care, Management, and Transition of Recovering Wounded, Ill, and Injured Members of the Armed Forces. The meeting notice published in the January 24, 2012 edition of the Federal Register (77 FR 3454) is amended to reflect changes in the meeting times and agenda. All other text in the previously announced meeting remains the same.

DATES: Tuesday, February 21, 2012-Thursday, February 23, 2012, from 8 a.m. to 5:30 p.m. EST, each day.

FOR FURTHER INFORMATION CONTACT: Mail Delivery service through Recovering Warrior Task Force, Hoffman Building II, 200 Stovall St., Alexandria, VA 22332-0021 “Mark as Time Sensitive for February Meeting.” Emails to rwtf@wso.whs.mil. Denise F. Dailey, Designated Federal Officer; Telephone (703) 325-6640. Fax (703) 325-6710.

SUPPLEMENTARY INFORMATION:

Purpose of the Meeting: The purpose of the meeting is for the Task Force Members to convene and gather data from panels and briefers on the Task Force's topics of inquiry.

Agenda: (Please refer to http://dtf.defense.gov/rwtf/meetings.html for the most up-to-date meeting information).

Day 1: Tuesday, February 21

8-9:30 a.m. Site Visit Review & Administration

9:30-9:45 a.m. Break

9:45-10:45 a.m. Continue Site Visit Review and Administration

10:45-11:45 a.m. WWCTP

11:45 a.m.-12:45 p.m. Lunch

12:45-2:15 p.m. Army WTC Briefing

2:15-2:30 p.m. Break

2:30-4 p.m. Air Force Programs for Wounded, Ill, and Injured Briefing

4-5 p.m. FRCP Update

5-5:30 p.m. Close

Day 2: Wednesday, February 22

8-8:30 a.m. Public Forum

8:30-9:30 a.m. TRICARE Management Activity Telephone Survey of Ill or Injured Service Members Post-Operational Deployment, Dr. Richard R. Bannick

9:30-9:45 a.m. Break

9:45-10:45 a.m. OSD Office of Military Community and Family Policy (MCFP)

10:45-11:45 a.m. SOCOM Care Coalition Update

11:45 a.m.-12:45 p.m. Lunch

12:45-2:15 p.m. Navy Safe Harbor Update

2:15-2:30 p.m. Break

2:30-3:30 p.m. VCE and EACE Updates

3:30-3:45 p.m. Break

3:45-4:45 p.m. OSD (HA) on Case Management Policy

4:45-5 p.m. Break

5-5:30 p.m. Close

Day 3: Thursday, February 23

8-8:30 a.m. Administration

8:30-9:45 a.m. DCoE PH & TBI Update

9:45-10 a.m. Break

10 a.m.-12 p.m. Panel on Evidence-Based Treatment Modalities for PTSD Program

12-1 p.m. Lunch

1-2:15 p.m. Interagency Program Office

2:15-2:30 p.m. Break

2:30-4 p.m. Marine Corps WWR Update

4-4:15 p.m. Break

4:15-5:15 p.m. Marine Corps WWR Staff Training

5:15-5:30 p.m. Wrap Up

Dated: January 26, 2012.
Aaron Siegel,
Alternate OSD Federal Register Liaison Officer, Department of Defense.

[FR Doc. 2012-2035 Filed 1-30-12; 8:45 am]

BILLING CODE 5001-06-P